DEPARTMENT OF THE INTERIOR

Fish and Wildlife Service

Receipt of a Permit Application (Rockledge) for Incidental Take of the Golden-Cheeked Warbler

AGENCY: Fish and Wildlife Service, Interior.

ACTION: Notice of availability.

SUMMARY: Rockledge, Inc. (Applicant) has applied for an incidental take permit (TE-051567-0) pursuant to section 10(a) of the Endangered Species Act (Act). The requested permit would authorize the incidental take of the endangered golden-cheeked warbler. The proposed take would occur as the result of the construction and occupation of a low-density residential development of 35 to 40 homesites on 53.5 acres of the 193.0-acre Russell Park Estates, Williamson County, Texas.

DATES: Written comments on the application should be received within 60 days of the date of this publication.

ADDRESSES: Persons wishing to review the application may obtain a copy by writing to the Regional Director, U.S. Fish and Wildlife Service, P.O. Box 1306, Room 4102, Albuquerque, New Mexico 87103. Persons wishing to review the EA/HCP may obtain a copy by contacting Scott Rowin, U.S. Fish and Wildlife Service, 10711 Burnet Road, Suite 200, Austin, Texas 78758 (512/490-0057). Documents will be available for public inspection by written request, by appointment only, during normal business hours (8 am to 4:30 pm) at the U.S. Fish and Wildlife Service, Austin, Texas. Written data or comments concerning the application and EA/HCP should be submitted to the Supervisor, U.S. Fish and Wildlife Service, Austin, Texas, at the above address. Please refer to permit number TE-051537-0 when submitting comments.

FOR FURTHER INFORMATION CONTACT: Scott Rowin, U.S. Fish and Wildlife Service, Austin Office, (512) 490-0057.

SUPPLEMENTARY INFORMATION: Section 9 of the Act prohibits the “taking” of endangered species such as the golden-cheeked warbler. However, the Fish and Wildlife Service (Service), under limited circumstances, may issue permits to take endangered wildlife species incidental to, and not the purpose of, otherwise lawful activities. Regulations governing permits for endangered species are at 50 CFR 17.22.

The Service has prepared the Environmental Assessment/Habitat Conservation Plan (EA/HCP) for the incidental take application. A determination of jeopardy to the species or a Finding of No Significant Impact (FONSI) will not be made until at least 60 days from the date of publication of this notice. This notice is provided pursuant to Section 10(c) of the Act and National Environmental Policy Act regulations (40 CFR 1506.6).

Applicants: Rockledge, Inc. plans to construct a low-density residential development of 35 to 40 homesites, within 30 years, on approximately 53.5 acres of the 193.0-acre Russell Park Estates, located approximately 0.25 miles south of the intersection of County Road 262 and Farm to Market 3405, Williamson County, Texas. This action will eliminate up to 53.5 acres of golden-cheeked warbler habitat. In addition, the vulnerability of another approximately 34.4 acres of warbler habitat may be reduced as a result of indirect effects associated with the development. The Applicant has made every effort to minimize and/or avoid impacts to the Bone Cave harvestman and believes the proposed action will not impact the harvestman. No take for this species is being requested or would be granted by issuance of this permit. The Applicant proposes to compensate for this incidental take of the golden-cheeked warbler by preserving approximately 139.4 acres of the highest quality warbler habitat onsite. This preserve land is adjacent to property owned by the U.S. Army Corps of Engineers.

Bryan Arroyo,
Acting Regional Director, Region 2.

[FR Doc. 02-7014 Filed 3-22-02; 8:45 am]

BILLING CODE 4510-55-P